DEPARTMENT OF COMMERCE

International Trade Administration

[A-580-810]

Welded ASTM A-312 Stainless Steel Pipe From the Republic of Korea: Final Results of Antidumping Duty Administrative Review and Final Determination of No Shipments; 2014-2015

AGENCY: Enforcement and Compliance, International Trade Administration, U.S. Department of Commerce.

SUMMARY: The final results of the administrative review of the antidumping duty (AD) order on Welded ASTM A-312 Stainless Steel Pipe from the Republic of Korea (Korea) do not differ from the Preliminary Results. The period of review (POR) is December 1, 2014, through November 30, 2015. The review covers SeAH Steel Corporation (SeAH) and LS Metal Co., Ltd. (LS Metal).

DATES: Effective May 19, 2017.

FOR FURTHER INFORMATION CONTACT: Lingjun Wang, AD/CVD Operations, Office VII, Enforcement and Compliance, International Trade Administration, U.S. Department of Commerce, 1401 Constitution Ave. NW., Washington, DC 20230; telephone: (202) 482-2316.

SUPPLEMENTARY INFORMATION:

Background

On January 7, 2016, the Department of Commerce (Department) published in the Federal Register the Preliminary Results.¹ For a history of events that have occurred since the Preliminary Results, see the Issues and Decision Memorandum.² The Issues and Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Issues and Decision Memorandum can be accessed directly on the Internet at http://trade.gov/login.aspx. The signed Issues and Decision Memorandum and the electronic versions of the Issues and Decision Memorandum are identical in content.

¹ See Welded ASTM A-312 Stainless Steel Pipe from the Republic of Korea: Preliminary Results of Antidumping Duty Administrative Review; 2014-2015, 81 FR 96435 (December 30, 2016) (Preliminary Results).

² See “Issues and Decision Memorandum for the Final Results of Antidumping Duty Administrative Review: Welded ASTM A-312 Stainless Steel Pipe from the Republic of Korea; 2014-2015” (Issues and Decision Memorandum), dated concurrently with and hereby adopted by this notice.

Scope of the Order

The merchandise subject to the antidumping duty order is welded austenitic stainless steel pipe that meets the standards and specifications set forth by the American Society for Testing and Materials (ASTM) for the welded form of chromium-nickel pipe designated ASTM A-312. The merchandise covered by the scope of the order also includes austenitic welded stainless steel pipes made according to the standards of other nations which are comparable to ASTM A-312.

Imports of welded ASTM A-312 stainless steel pipe are currently classifiable under the following Harmonized Tariff Schedule of the United States (HTSUS) subheadings: 7306.40.5005, 7306.40.5015, 7306.40.5040, 7306.40.5062, 7306.40.5064, and 7306.40.5085. Although these subheadings include both pipes and tubes, the scope of the antidumping duty order is limited to welded austenitic stainless steel pipes. The HTSUS subheadings are provided for convenience and customs purposes. However, the written description of the scope of the order is dispositive.³

³ See Issues and Decision Memorandum for a full description of the scope of order.

Analysis of Comments Received

All issues raised in the case and rebuttal briefs are addressed in the Issues and Decision Memorandum. A list of issues raised and to which we responded in the Issues and Decision Memorandum is attached to this notice as an Appendix.

Final Determination of No Shipments

The Department preliminarily found that LS Metal had no shipments and, therefore, no reviewable transactions during the POR. The Department received no further comments or information that refute this finding. Thus, the Department continues to find that LS Metal had no reviewable transactions during the POR.

Changes Since the Preliminary Results

Based on a review of the record and comments received from interested parties regarding our Preliminary Results, and for the reasons explained in the Issues and Decision Memorandum, we have made no change to SeAH's margin calculation.

Final Results of Review

As a result of our review, we determine the following weighted-average dumping margin exists for the period December 1, 2014, through November 30, 2015.

Producer or exporter | Weighted- average dumping margin
SeAH Steel Corporation | 1.91

Assessment Rates

Pursuant to section 751(a)(2)(C) of the Tariff Act of 1930, as amended (the Act) and 19 CFR 351.212(b)(1), the Department determined, and U.S. Customs and Border Protection (CBP) shall assess, antidumping duties on all appropriate entries of subject merchandise, in accordance with the final results of this review.

The Department will instruct CBP to liquidate entries of merchandise produced and/or exported by the aforementioned companies, and intends to issue assessment instructions to CBP 15 days after the date of publication of the final results of review.

Where the respondent (i.e., SeAH) reported the entered value for its sales, the Department calculates importer-specific ad valorem assessment rates based on the ratio of the total amount of dumping calculated for the examined sales to the total entered value of those same sales.⁴ However, where the respondent did not report the entered value for its sales, the Department calculates importer-specific per-unit duty assessment rates.

⁴ See 19 CFR 351.212(b).

The Department's “automatic assessment” practice will apply to entries of subject merchandise during the POR produced by the respondent who did not know that the merchandise was destined for the United States (i.e., LS Metal). In such instances, we will instruct CBP to liquidate unreviewed entries at the all-others rate if there is no rate for the intermediate company(ies) involved in the transaction.⁵

⁵ See Antidumping And Countervailing Duty Proceedings: Assessment of Antidumping Duties, 68 FR 23954 (May 6, 2013).

Cash Deposit Requirements

The following deposit requirements will be effective for all shipments of Welded ASTM A-312 Stainless Steel Pipe from Korea entered, or withdrawn from warehouse, for consumption on or after the date of publication of the final results of this administrative review, as provided for by section 751(a)(2)(C) of the Act: (1) The cash deposit rate for the company under review will be equal to the weighted-average dumping margin established in the final results of this review (except, if the rate is de minimis, i.e., less than 0.5 percent, then the cash deposit rate will be zero); (2) for previously reviewed or investigated companies not listed above, the cash deposit rate will continue to be the company-specific rate published in the completed segment for the most recent period; (3) if the exporter is not a firm covered in this review, a prior review, or the less-than-fair-value investigation (LTFV), but the manufacturer is, the cash deposit rate will be the rate established in the completed segment for the most recent period for the manufacturer of the merchandise; and (4) if neither the exporter nor the manufacturer is a firm covered in this or any other completed segment of this proceeding, then the cash deposit rate will continue to be 7.00 percent, the “all others” rate made effective by the LTFV investigation.⁶ These deposit requirements, when imposed, shall remain in effect until further notice.

⁶ See Notice of Amended Final Determination and Antidumping Duty Order: Certain Welded Stainless Steel Pipe From the Republic of Korea, 60 FR 10064 (February 23, 1995).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act and 19 CFR 351.221(b)(5).

Dated: May 15, 2017.
Ronald K. Lorentzen,
Acting Assistant Secretary for Enforcement and Compliance.

Appendix

Summary

Background

Scope of the Order

Discussion of the Issues

1. Model-Match Characteristics

2. Home Market Inland Freights

3. U.S. Indirect Selling Expenses

4. Differential Pricing Analysis

[FR Doc. 2017-10203 Filed 5-18-17; 8:45 am]

BILLING CODE 3510-DS-P